DEPARTMENT OF AGRICULTURE

Forest Service

Notice of New Fee Site; Federal Lands Recreation Enhancement Act (Title VII, Pub. L. 108-447)

AGENCY: Ochoco National Forest, USDA Forest Service.

ACTION: Notice of New Fee Site.

SUMMARY: The Ochoco National Forest is planning to charge a $90 fee for the rental of the Ochoco Ranger Station (Ranger's House). This site has been reconditioned and furnishings added for recreation use. Funds from the fee site will be used for the continued operation and maintenance of the Ranger's House.

DATES: Ranger's House will become a fee site for recreation camping January, 2009.

ADDRESSES: Forest Supervisor, Ochoco National Forest, 3160 NE 3 St, Prineville, OR 97754.

FOR FURTHER INFORMATION CONTACT: Cathy Lund, Recreation Staff, 541-416-6451.

SUPPLEMENTARY INFORMATION: The Federal Recreation Lands Enhancement Act (Title VII, Pub. L. 108-447) directed the Secretary of Agriculture to publish a six-month advance notice in the Federal Register whenever new recreation fee areas are established. This new fee will be reviewed by a Recreation Resource Advisory Committee prior to a final decision and implementation.

The Ochoco National Forest currently has one other recreational rental on the Lookout Mt. Ranger District. This rental is occupied at 90% throughout the open season. A business analysis of this type of rental has shown that people desire having this sort of recreation experience on the Ochoco National Forest. A market analysis indicates that the $90 per night fee is both reasonable and acceptable for this rental.

People wanting to rent the Ranger's House would need to do so through the National Recreation Reservation Service, at http://www.reserveusa.com.

Dated: March 25, 2008.
Jeff Walter,
Ochoco National Forest Supervisor.

[FR Doc. E8-6900 Filed 4-3-08; 8:45 am]

BILLING CODE 3410-11-M